COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before June 9, 2016.

ADDRESSES: Comments regarding the burden estimated or any other aspect of the information collection, including suggestions for reducing the burden, may be submitted directly to the Office of Information and Regulatory Affairs (OIRA) in the Office of Management and Budget (OMB), within 30 days of the notice's publication by email at OIRAsubmissions@omb.eop.gov. Please identify the comments by “OMB Control No. 3038-0104 (Exemption for Swaps Between Affiliates).” Please provide the Commodity Futures Trading Commission (“CFTC” or “Commission”) with a copy of all submitted comments at the address listed below. Please refer to OMB Reference Nos. 3038-0104, found on http://reginfo.gov. Comments may also be mailed to OIRA, OMB, Attention: Desk Officer for the Commodity Futures Trading Commission, 725 17th Street NW., Washington, DC 20503, and to the Commission through its Web site at http://comments.cftc.gov. Follow the instructions for submitting comments through the Web site.

Comments may also be mailed to: Christopher Kirkpatrick, Secretary, Commodity Futures Trading Commission, 1155 21st Street NW., Washington, DC 20581 or by Hand Delivery/Courier at the same address.

A copy of the supporting statements for the collection of information discussed above may be obtained by visiting http://regInfo.gov. All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.

FOR FURTHER INFORMATION CONTACT: Peter Kals, Division of Clearing and Risk, Commodity Futures Trading Commission, (202) 418-5466; email: pkals@cftc.gov, and refer to OMB Control No. 3038-0104.

SUPPLEMENTARY INFORMATION:

Title: Exemption for Swaps Between Affiliates (OMB Control No. 3038-0104). This is a request for extension of a currently approved information collection.

Abstract: Section 2(h)(1)(A) of the Commodity Exchange Act requires certain entities to submit for clearing certain swaps if they are required to be cleared by the Commission. Rule 50.52 permits certain affiliated entities to elect not to clear certain inter-affiliate swaps that otherwise would be required to be cleared, provided that they meet certain conditions. The rule further requires the reporting of certain information if the exemption is elected. This collection pertains to information the Commission needs to monitor use of the exemption and assess market risk in connection therewith. The collections of information are required to obtain the exemption. An agency may not conduct or sponsor, and a person is not required to respond to, a collection of information unless it displays a currently valid OMB control number. The Commission did not receive any comments on the 60-day Federal Register notice, 81 FR 11762, dated March 7, 2016.

Burden Statement: The respondent burden for this collection is estimated to require one hour per response.

Respondents/Affected Entities: Swap dealers and other multinational corporations.

Estimated Number of Respondents: 75.

Estimated Average Burden Hours per Respondent: 1 hour.

Estimated Total Average Annual Burden Hours on Respondents: 75 hours.

Frequency of Collection: Annually; on occasion.

There are no capital costs or operating and maintenance costs associated with this collection.

Authority: 44 U.S.C. 3501 et seq.

Dated: May 4, 2016.
Robert N. Sidman,
Deputy Secretary of the Commission.

[FR Doc. 2016-10848 Filed 5-9-16; 8:45 am]

BILLING CODE 6351-01-P